COMMISSION ON CIVIL RIGHTS

Agenda and Notice of Public Meeting of the Arizona Advisory Committee and the California, New Mexico and Texas Subcommittees

Notice is hereby given, pursuant to the provisions of the rules and regulations of the U.S. Commission on Civil Rights, that a community forum of the Arizona State Advisory Committee and the California, New Mexico and Texas Subcommittees will convene at 10 a.m. (PDT) and adjourn at 6 p.m. (PDT), Friday, August 27, 2004 and Saturday, August 28, 2004 from 10 a.m. to 2 p.m. The purpose of the community forum will be to obtain current information from public and private individuals and organizations on concerns of conditions and activities along the United States-Mexico border. Also, an open session will be conducted.

Persons desiring additional information, or planning a presentation to the Committee, should contact Arthur Palacios, Civil Rights Analyst, Western Regional Office, (213) 894-3437. Hearing impaired persons who will attend the meeting and require the services of a sign language interpreter should contact the Regional Office at least ten (10) working days before the scheduled date of the meeting.

The meeting will be conducted pursuant to the provisions of the rules and regulations of the Commission.

Dated at Washington DC, July 2, 2004.
Ivy L. Davis,
Chief, Regional Programs Coordination Unit.

[FR Doc. 04-15837 Filed 7-12-04; 8:45 am]

BILLING CODE 6335-01-P